DEPARTMENT OF THE TREASURY

Office of Thrift Supervision

United Western Bank Denver, Colorado; Notice of Appointment of Receiver

Notice is hereby given that, pursuant to the authority contained in section 5(d)(2) of the Home Owners' Loan Act, the Office of Thrift Supervision has duly appointed the Federal Deposit Insurance Corporation as sole Receiver for United Western Bank, Denver, Colorado, (OTS No. 06679) on January 21, 2011.

Dated: January 24, 2011.
By the Office of Thrift Supervision.
Sandra E. Evans,
Federal Register Liaison.

[FR Doc. 2011-1864 Filed 1-28-11; 8:45 am]

BILLING CODE 6720-01-M